DEPARTMENT OF STATE

[Second Amendment to Delegation of Authority 221]

Delegation of Authority 221-2

Section 1. Functions Delegated

By virtue of the authority vested in me by the Secretary of State in Delegation of Authority 148-1, dated September 9, 1981, and Delegation of Authority 198, dated September 16, 1992, I hereby delegate to the Director General of the Foreign Service and Director of Personnel the authority vested in me:

(a) To prescribe regulations arising under the Foreign Service Act of 1980, the Civil Service Reform Act, and any other laws administered by or relating to the Bureau of Personnel and the Office of Medical Services;

(b) To exercise the functions of the Secretary under:

(1) § 308 of the Foreign Service Act of 1980, as amended (relating to the recall and reemployment of retired career members of the Service).

(2) § 401(b) of the Foreign Service Act of 1980, as amended (relating to the continuation of the official services of the chief of mission for up to 50 days after relinquishment of charge of the mission).

(3) § 413 of the Foreign Service Act of 1980, as amended (relating to payment of a death gratuity to surviving dependents of any Foreign Service employee who dies as a result of injuries sustained in the performance of duty abroad);

(4) § 605(b) of the Foreign Service Act of 1980, as amended (relating to removing names from rank order lists or delaying promotions);

(5) § 607(b) of the Foreign Service Act of 1980, as amended (relating to limited career extensions);

(6) § 609(b)(1) of the Foreign Service Act of 1980, as amended (relating to accelerating or combining installments);

(7) § 808 of the Foreign Service Act of 1980, as amended (relating to disability retirement and related determinations);

(8) § 901(6) of the Foreign Service Act of 1980, as amended (relating to rest and recuperation travel, including extraordinary rest and recuperation travel);

(9) § 901(8) of the Foreign Service Act of 1980, as amended (relating to designation of posts as imminent danger areas from which family visitation travel is permitted);

(10) 5 U.S.C. § 5753 and § 5754 (relating to recruitment and relocation bonuses and retention allowances).

Section 2. Delegations Revoked

Delegation of Authority No. 224, dated September 2, 1998, Delegation of Authority No. 132, dated July 8, 1975, 40 Federal Register 28646, and Delegation of Authority 221-1 dated October 1, 1999 are hereby revoked.

Section 3. General Provisions

(a) As used in this delegation of authority, the word “function” includes any duty, obligation, power, authority, responsibility, right, privilege, discretion, or activity.

(b) The parenthetical descriptions used in this delegation of authority shall not be construed as words of limitation.

(c) This authority may only be re-delegated to a Deputy Assistant Secretary of State for Personnel to the extent consistent with the law.

(d) Notwithstanding any provisions of this delegation of authority, the Secretary, the Deputy Secretary, and the Under Secretary of State for Management may at any time exercise the functions herein delegated.

(e) The exercise by the Director General, or any person acting on behalf of the Director General, of the functions prescribed herein, prior to the effective date of this Delegation of Authority is hereby confirmed and ratified.

(f) An act, executive order, regulation or procedure subject to, or affected by, this delegation shall be deemed to be such act, executive order, regulation or procedure as amended from time to time.

(g) This Delegation of Authority supersedes any prior delegation on this subject to the extent such delegation may be inconsistent herewith.

Dated: February 23, 2000.
Bonnie R. Cohen,
Under Secretary of State for Management, U.S. Department of State.

[FR Doc. 00-5218 Filed 3-2-00; 8:45 am]

BILLING CODE 4710-15-P